DEPARTMENT OF COMMERCE

International Trade Administration

[A-557-809]

Stainless Steel Butt-Weld Pipe Fittings From Malaysia: Rescission of Antidumping Duty Administrative Review

AGENCY: Import Administration, International Trade Administration, U.S. Department of Commerce.

ACTION: Notice of Rescission of the antidumping duty administrative review for the period December 27, 2000 through January 31, 2002.

SUMMARY: On March 27, 2002, in response to a request made by Schulz (Mfg.) Sdn. Bhd. (“Schulz”), a producer and exporter of the subject merchandise in Malaysia, the Department of Commerce (“Department”) published a notice of initiation of an antidumping duty administrative review on stainless steel butt-weld pipe fittings (“SSBWPF”) from Malaysia, for the period December 27, 2000 through January 31, 2002. Because Schulz has withdrawn its request for review, and there were no other requests for review for this time period, the Department is rescinding this review in accordance with 19 CFR 351.213(d)(1).

EFFECTIVE DATE: May 29, 2002.

FOR FURTHER INFORMATION CONTACT: Laurel LaCivita or Robert A. Bolling, Enforcement Group III, Office 9, Import Administration, International Trade Administration, U.S. Department of Commerce, 1401 Constitution Avenue, N.W., Washington, DC 20230; telephone: 202-482-4243 and 202-482-3434, respectively.

SUPPLEMENTARY INFORMATION:

The Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR Part 351 (2001).

Background

On February 28, 2002, Schulz, a producer and exporter of the subject merchandise in Malaysia, requested the Department to conduct an administrative review of its sales for the period December 27, 2000 through January 31, 2002. Schultz was the only interested party to request a review for this time period. On March 27, 2002, the Department published a notice of initiation of the antidumping administrative review on SSBWPF from Malaysia, in accordance with 19 CFR 351.221(c)(1)(i). See Initiation of Antidumping and Countervailing Duty Administrative Reviews and Requests for Revocations in Part, 67 FR 14696 (March 27, 2002). On April 8, 2002, Schulz withdrew its request for review.

Rescission of Review

Pursuant to the Department's regulations, the Department will rescind an administrative review “if a party that requested the review withdraws the request within 90 days of the date of publication of notice of initiation of the requested review.” See 19 CFR 351.213(d)(1). Schultz, the only interested party to request an administrative review for this time period, requested a withdrawal of this review within the 90-day time limit; accordingly, we are rescinding the administrative review for the period December 27, 2000 through January 31, 2002, and will issue appropriate assessment instructions to the U.S. Customs Service.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Act.

Dated: May 21, 2002
Faryar Shirzad,
Assistant Secretary for Import Administration.

[FR Doc. 02-13388 Filed 5-28-02; 8:45 am]

BILLING CODE 3510-DS-S